DEPARTMENT OF THE INTERIOR

Office of the Secretary

Establishment of Hanford Reach National Monument Federal Planning Advisory Committee

AGENCY: Office of the Secretary, Interior.

ACTION: Notice of Establishment.

SUMMARY: The Secretary of the Interior, after consultation with the Department of Energy (DOE) and General Services Administration, has established the Hanford Reach National Monument Federal Planning Advisory Committee (Committee). The Committee will provide recommendations to the Fish and Wildlife Service (Service) and DOE on the preparation of a comprehensive conservation plan and associated environmental impact statement (CCP/EIS) for the Hanford Reach National Monument (Monument). Additionally, the Committee will help to ensure that during development of the CCP/EIS, we consider the land-use visions and perspectives of affected stakeholders within the framework of the directives of Presidential Proclamation 7319, June 9, 2000; the DOE Hanford Site; and the policy requirements of the National Wildlife Refuge System.

FOR FURTHER INFORMATION CONTACT: Greg Hughes, Project Leader, Hanford Reach National Monument/Saddle Mountain National Wildlife Refuge, 3250 Port of Benton Boulevard, Richland, WA 99352. Telephone: (509) 371-1801.

SUPPLEMENTARY INFORMATION: We are publishing this notice in accordance with the requirements of the Federal Advisory Committee Act (5 U.S.C. App.) (FACA). The Secretary of the Interior certifies that he has determined that the formation of the Committee is necessary and is in the public interest.

The Committee will conduct its operations in accordance with the provisions of FACA. The Committee will report to the Director of the Service or the Director's designee and will function solely as an advisory body. The Committee's charter directs the Committee to provide advice to the Service and DOE regarding the preparation of the Monument CCP/EIS, including the identification of planning issues and development of vision, goals, objectives, priorities, and management alternatives.

To achieve the Committee's goals, the Secretary will appoint members who can effectively represent the varied interests associated with the Monument. Members will represent State, local, and tribal governments; economic interests; environmental organizations; scientific and academic interests; outdoor recreation interests; and the public-at-large. Each member must be qualified on the basis of knowledge and understanding of the lands and resources of the Monument; past experience working with government planning processes; ability to actively participate in diverse team settings; demonstrated skill in working toward mutually beneficial solutions to complex issues; and commitment to attending Committee meetings.

The Committee will meet at such intervals as are necessary to carry out its functions. We expect that the Committee will meet at least six times per year. The Service will provide necessary support services to the Committee. All meetings of the Committee and any subcommittee established by the Committee will be open to the public. The public will have the opportunity to provide input at all meetings.

The Committee will continue for the length of time required to complete the Monument CCP/EIS (estimated to be approximately 2 years).

Fifteen days after publication of this notice in the Federal Register, a copy of the Committee's charter will be filed with the Committee Management Secretariat, General Services, Administration; Committee on Environment and Public Works, United States Senate; Committee on Resources, United States House of Representatives; and the Library of Congress.

The Certification for establishment is published below.

Certification

I hereby certify that the Hanford Reach National Monument Federal Planning Advisory Committee is necessary and is in the public interest in connection with the performance of duties imposed on the Department of the Interior by Presidential Proclamation 7319 of June 9, 2000, Establishment of the Hanford Reach National Monument. The Committee will assist the Fish and Wildlife Service and the Department of Energy by providing advice on the preparation of a Comprehensive Conservation Plan and associated Environmental Impact Statement for the Monument.

Dated: December 19, 2000.
Bruce Babbitt,
Secretary of the Interior.

[FR Doc. 00-32940 Filed 12-26-00; 8:45 am]

BILLING CODE 4310-55-P